DEPARTMENT OF THE INTERIOR

Bureau of Reclamation

Privacy Act of 1974; as Amended; Amendments to Existing Systems of Records

AGENCY: Bureau of Reclamation, Interior.

ACTION: Proposed amendment of existing systems of records.

SUMMARY: In accordance with the Privacy Act of 1974 (5 U.S.C. 552a), the Bureau of Reclamation is issuing public notice of its intent to amend 22 existing Privacy Act system of records notices to add a new routine use to authorize the disclosure of records to individuals involved in responding to a breach of Federal data.

DATES: Comments received on or before May 27, 2008 will be considered.

ADDRESSES: Any persons interested in commenting on these proposed amendments may do so by submitting comments in writing to the Bureau of Reclamation Privacy Act Officer, Mr. Casey Snyder, Bureau of Reclamation, 84-21300, Building 67, P.O. Box 25007, Denver, Colorado 80225 or by e-mail to csnyder@do.usbr.gov.

FOR FURTHER INFORMATION CONTACT: Bureau of Reclamation Privacy Act Officer, Mr. Casey Snyder, at 303-445-2048.

SUPPLEMENTARY INFORMATION: On May 22, 2007, in a memorandum for the heads of Executive Departments and Agencies entitled “Safeguarding Against and Responding to the Breach of Personally Identifiable Information,” the Office of Management and Budget directed agencies to develop and publish a routine use for disclosure of information in connection with response and remedial efforts in the event of a data breach. This routine use will serve to protect the interest of the individuals whose information is at issue by allowing agencies to take appropriate steps to facilitate a timely and effective response to the breach, thereby improving its ability to prevent, minimize or remedy any harm resulting from a compromise of data maintained in its systems of records. Accordingly, the Bureau of Reclamation, Department of the Interior, is proposing to add a new routine use to authorize disclosure to appropriate agencies, entities, and persons, of information maintained in the following systems in the event of a data breach.

These amendments will be effective as proposed at the end of the comment period unless comments are received which would require a contrary determination. Reclamation will publish a revised notice if changes are made based upon a review of comments received.

Dated: March 14, 2008.
Randy Feuerstein,
Chief Information Officer, Denver Office.

SYSTEM NAMES:

Interior, WBR-5: “Claims.” (Published March 17, 1999, 64 FR 13234)

Interior, WBR-7: “Concessions.” (Published December 9, 1999, 64 FR 69032)

Interior, WBR-11: “Identification/Security Cards.” (Published February 9, 2000, 65 FR 6393)

Interior, WBR-12: “Inventions and Patents.” (Published July 28, 1999, 64 FR 40894)

Interior, WBR-13: “Irrigation Management Service.” (Published June 3, 1999, 64 FR 29876)

Interior, WBR-14: “Land Exchange.” (Published June 3, 1999, 64 FR 29876)

Interior, WBR-15: “Land Settlement Entries.” (Published June 3, 1999, 64 FR 29876)

Interior, WBR-17: “Lands—Leases, Sales, Rentals, and Transfers.” (Published June 3, 1999, 64 FR 29876)

Interior, WBR-19: “Mineral Location Entries.” (Published June 3, 1999, 64 FR 29876)

Interior, WBR-22: “Oil and Gas Applications.” (Published June 3, 1999, 64 FR 29876)

Interior, WBR-28: “Real Property and Right-of-Way Acquisitions.” (Published June 3, 1999, 64 FR 29876)

Interior, WBR-29: “Right-of-Way Applications.” (Published June 3, 1999, 64 FR 29876)

Interior, WBR-31: “Acreage Limitation.” (Published March 17, 1999, 64 FR 13234)

Interior, WBR-32: “Special Use Applications, Licenses, and Permits.” (Published June 3, 1999, 64 FR 29876)

Interior, WBR-37: “Trespass Cases.” (Published June 3, 1999, 64 FR 29876)

Interior, WBR-38: “Water right Applications.” (Published June 3, 1999, 64 FR 29876)

Interior, WBR-39: “Water Rights Acquisition.” (Published June 3, 1999, 64 FR 29876)

Interior, WBR-40: “Water Sales and Delivery Contracts.” (Published June 3, 1999, 64 FR 29876)

Interior, WBR-41: “Permits.” (Published June 3, 1999, 64 FR 29876)

Interior, WBR-43: “Real Estate Comparable Sales Data Storage.” (Published June 23, 1999, 64 FR 33504)

Interior, WBR-45: “Equipment, Supply, and Service Contracts.” (Published August 11, 1999, 64 FR 43714)

Interior, WBR-48: “Lower Colorado River Well Inventory.” (Published June 3, 1999, 64 FR 29874)

NEW ROUTINE USE:

Disclosures outside the Department of the Interior may be made:

To appropriate agencies, entities, and persons when:

(a) It is suspected or confirmed that the security or confidentiality of information in the system of records has been compromised; and

(b) Reclamation has determined that as a result of the suspected or confirmed compromise there is a risk of harm to economic or property interest, identity theft or fraud, or harm to the security or integrity of this system or other systems or programs (whether maintained by Reclamation or another agency or entity) that rely upon the compromised information; and

(c) The disclosure is made to such agencies, entities and persons who are reasonably necessary to assist in connection with Reclamation's efforts to respond to the suspected or confirmed compromise and prevent, minimize, or remedy such harm.

[FR Doc. E8-8265 Filed 4-16-08; 8:45 am]

BILLING CODE 4310-MN-P